DEPARTMENT OF LABOR

Mine Safety and Health Administration

Petition for Modification of Existing Mandatory Safety Standard

AGENCY: Mine Safety and Health Administration (MSHA), Labor.

ACTION: Notice.

SUMMARY: Section 101(c) of the Federal Mine Safety and Health Act of 1977 and 30 CFR part 44 govern the application, processing, and disposition of petitions for modification. This notice is a summary of a petition for modification filed by the party listed below to modify the application of an existing mandatory safety standard published in Title 30 of the Code of Federal Regulations.

DATES: All comments on the petition must be received by the Office of Standards, Regulations and Variances on or before November 22, 2010.

ADDRESSES: You may submit your comments, identified by “docket number” on the subject line, by any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect a copy of the petition and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petition for Modification

Docket Number: M-2010-003-M.

Petitioner: Resolution Copper Mining, LLC, Resolution Mine, MSHA I.D. No. 02-00152 located in Pinal County, Arizona.

Regulation Affected: 30 CFR 57.19076 (Maximum speeds for hoisting persons in buckets).

Modification Request: The petitioner requests a modification of the existing standard to permit miners to be hoisted in open ended buckets at a rate of 1200 feet per minute (FPM). The petitioner states that: (1) Personnel would ride inside of a completely empty bucket in accordance with 30 CFR 57.19071 (Riding in skips or buckets), while standing on the bucket floor. The round open bucket is 8.5 feet high and 6 feet in diameter. On average, while standing on the bucket floor, the top of the miner's head would be 2.5 feet below the open bucket rim; (2) the buckets are in compliance with 30 CFR 57.19050 (Bucket requirements) as follows: (a) Buckets are securely attached to a crosshead at all times while traveling in the shaft; (b) the bucket has overhead protection by means of a canopy permanently installed on the crosshead; (c) the buckets have sufficient depth to transport persons safely in a standing position; and (d) the buckets are attached to the crosshead by a “Dolly Ball” at the crosshead and do not have bails attached to their lower half; (3) all buckets are equipped with engineered anchor points inside the bucket located under the bucket foot wells on the bucket walls. Personnel are required to be securely anchored to these anchors with a full body harness and safety lanyard at all times while traveling in the bucket; (4) the emergency braking deceleration rate of the sinking hoist running at 1500 FPM is 11.4 feet per second per second (11.4 ft/s²) when moving up, and 10.7 feet per second per second (10.7 ft/s²) when moving down. This deceleration is significantly lower than the maximum deceleration rate of 16 feet per second per second (16 ft/s²) prescribed in 30 CFR 57.19062. At the intended man hoisting speed of 1200 FPM the deceleration rates will be much lower; (5) the sinking hoist is operated under computer programmable logical controls (PLC). There are controls that verify the crosshead is attached to the bucket all times while traveling in the shaft; (6) there are 3 sets of safety doors in the shaft. The doors are located at the shaft collar on the surface, the ventilation level is 100 feet below the surface, the bucket dump and the Never Sweat Level is 1190 feet below the surface, and there is also safety backsplashes located at the bucket dump which is 800 feet below the surface. Each of these installations have proximity switches and electronic monitoring verifying that the crosshead is attached to the bucket when they pass through these safety systems; and (7) the hoist deceleration rates at 1200 FPM provide at least the same measure of protection as the existing standard.

Dated: October 15, 2010.
Patricia W. Silvey,
Director, Office of Standards, Regulations and Variances.

[FR Doc. 2010-26483 Filed 10-20-10; 8:45 am]

BILLING CODE 4510-43-P